DEPARTMENT OF STATE

[Public Notice: 9531]

Department of State FY 2015 Service Contract Inventory

AGENCY: Department of State.

ACTION: Notice of release of the Department of State's FY 2015 Service Contract Inventory.

SUMMARY: Acting in compliance with Sec. 743 of Division C of the Consolidated Appropriations Act of 2010 (Pub. L. 111-117), the Department of State is publishing this notice to advise the public of the availability of the FY 2015 Service Contract Inventory. The FY 2015 Service Contract Inventory includes the Planned Analysis, and Summary, Detailed, and Supplement Reports. The FY 2014 Meaningful Analysis is also available.

The inventory was developed in accordance with guidance issued on November 5, 2010, December 19, 2011, November 25, 2014, and September 8, 2015 by the Office of Management and Budget (OMB), Office of Federal Procurement Policy (OFPP). The Department of State has posted its FY 2015 Service Contract Inventory and FY 2014 Meaningful Analysis at the following link: https://csm.state.gov/content.asp?content_id=135&menu_id=68.

DATES: The inventory is available on the Department's Web site as of April 14, 2016.

FOR FURTHER INFORMATION CONTACT: Marlon Henry, Management and Program Analyst, A/EX/CSM, 202-485-7210, HenryMD@state.gov.

Dated: April 18, 2016.
Marlon Henry,
Management and Program Analyst, A/EX/CSM, Department of State.

[FR Doc. 2016-09400 Filed 4-21-16; 8:45 am]

BILLING CODE 4710-24-P